DEPARTMENT OF ENERGY

Federal Energy Regulatory Commission

[Docket Nos. CP13-132-000]

Transcontinental Gas Pipe Line Company, LLC; Notice of Application

Take notice that on April 9, 2013, Transcontinental Gas Pipe Line Company, LLC (Transco), Post Office Box 1396, Houston, Texas 77251, filed in Docket No. CP13-132-000 an application under Section 7 of the Natural Gas Act and Part 157 the Commission's Rules and Regulations for all the necessary authorizations required to construct, own and operate its Northeast Connector Project (Project) in New York. The Project is an expansion of Transco's existing pipeline system which will enable Transco provide an additional 100,000 dekatherms per day of firm transportation service from Transco's existing Compressor Station 195 to an interconnection between Transco's existing Lower New York Bay Lateral at or near milepost 34.31 in New York State waters and the proposed Rockaway Delivery Lateral.

The Project will include compressor unit modifications and the net addition of 16,940 horsepower of compression at three existing compressor stations, and construction or modification of related appurtenant underground and above ground facilities. No expansion of the pipeline is required. In addition to the firm service to be provided by the Project, National Grid NY can use its secondary rights to make deliveries to other points in Zone 6, including the existing Narrows delivery point and the existing Manhattan and Central Manhattan delivery points via the New York Facilities Group, all as more fully set forth in the application which is on file with the Commission and open to public inspection.

Copies of this filing are available for review at the Commission in the Public Reference Room, or may be viewed on the Commission's Web site Web at http://www.ferc.gov using the “eLibrary” link. Enter the docket number excluding the last three digits in the docket number field to access the document. For assistance, contact FERC at FERCOnlineSupport@ferc.gov or call toll-free, (886) 208-3676 or TTY, (202) 502-8659.

Pursuant to Section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Questions regarding this application should be directed to Bill Hammons, P.O. Box 1396, Houston, Texas 77251; phone (713) 215-2130. Transco has also established a public Web site for the Rockaway Project (http://www.williams.com/rockaway), a toll-free phone number (1-866-455-9103) so that parties can call with questions about the Rockaway Project, and an email support address (PipelineExpansion@williams.com).

There are two ways to become involved in the Commission's review of this project. First, any person wishing to obtain legal status by becoming a party to the proceedings for this project should, before the comment date of this notice, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 5 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-Filing” link.

Comment Date: 5:00 p.m. Eastern Time on May 8, 2013.

Dated: April 17, 2013.
Kimberly D. Bose,
Secretary.

[FR Doc. 2013-09616 Filed 4-23-13; 8:45 am]

BILLING CODE 6717-01-P